DEPARTMENT OF COMMERCE

International Trade Administration

[A-570-967]

Aluminum Extrusions From the People's Republic of China: Preliminary Results of Antidumping Duty Administrative Review and Rescission of Review in Part; 2019-2020

AGENCY: Enforcement and Compliance, International Trade Administration, Department of Commerce.

SUMMARY: The Department of Commerce (Commerce) is conducting an administrative review of the antidumping duty (AD) order on aluminum extrusions from the People's Republic of China (China). The period of review (POR) is May 1, 2019, through April 30, 2020. Commerce preliminarily determines that, because Kingtom Aluminio S.R.L. (Kingtom) exported merchandise from the Dominican Republic that is Chinese in origin, Kingtom is a third-country exporter and is not eligible for a separate rate and that, because Kingtom did not identify a Chinese exporter, we are unable to use the information provided by Kingtom to apply our non-market economy (NME) calculation methodology. Additionally, we preliminarily determine that none of the companies for which an administrative review was requested, and the request was not withdrawn, have demonstrated their eligibility for a separate rate and are, therefore, part of the China-wide entity, unless they have submitted a valid statement of no shipments. Interested parties are invited to comment on these preliminary results.

DATES: Applicable August 6, 2021.

FOR FURTHER INFORMATION CONTACT: Mark Flessner, AD/CVD Operations, Office VI, Enforcement and Compliance, International Trade Administration, U.S. Department of Commerce, 1401 Constitution Avenue NW, Washington, DC 20230; telephone: (202) 482-6312.

SUPPLEMENTARY INFORMATION:

Background

On July 15, 2020, Commerce published the notice of initiation of the administrative review of the AD order on aluminum extrusions from China ¹ for the period May 1, 2019, through April 30, 2020, covering 98 companies.² All requests for administrative review were timely withdrawn with regard to 11 companies (listed in Appendix II to this notice), leaving 87 companies subject to this administrative review.³ For a complete description of the events that followed the initiation of this administrative review, see the Preliminary Decision Memorandum.⁴

¹ See Aluminum Extrusions from the People's Republic of China: Antidumping Duty Order, 76 FR 30650 (May 26, 2011) (Order).

² See Initiation of Antidumping and Countervailing Duty Administrative Reviews, 85 FR 41540, 41544-41545 (July 10, 2020) (Initiation Notice). Several parties, including Kingtom itself, had used the name “Kingtom S.L.R.” instead of “Kingtom S.R.L.” in their submissions, as did Commerce in the Initiation Notice. The Aluminum Extrusions Fair Trade Committee (the petitioner), clarified the name. See Petitioner's Letter, “Aluminum Extrusions from the People's Republic of China: Clarification of Mandatory Respondent,” dated April 30, 2021. Because “S.R.L.” stands for Sociedad de Responsibilidad Limitada and is the proper business form, we corrected the error in the Initiation Notice. See Initiation of Antidumping and Countervailing Duty Administrative Reviews, 86 FR 31282 (June 11, 2021).

³ See Petitioner's Letter, “Aluminum Extrusions from the People's Republic of China: Partial Withdrawal of Request for Administrative Review,” dated September 4, 2020.

⁴ See Memorandum, “Decision Memorandum for Preliminary Results of Antidumping Duty Administrative Review: Aluminum Extrusions from the People's Republic of China; 2019-2020,” dated concurrently with, and hereby adopted by, this notice (Preliminary Decision Memorandum).

The Preliminary Decision Memorandum is a public document and is on file electronically via Enforcement and Compliance's AD and Countervailing Duty Centralized Electronic Service System (ACCESS). ACCESS is available to registered users at https://access.trade.gov. In addition, a complete version of the Preliminary Decision Memorandum can be accessed directly on the internet at http://enforcement.trade.gov/frn/. A list of topics included in the Preliminary Decision Memorandum is included as Appendix I to this notice.

Scope of the Order

The merchandise covered by the Order is aluminum extrusions which are shapes and forms, produced by an extrusion process, made from aluminum alloys having metallic elements corresponding to the alloy series designations published by The Aluminum Association commencing with the numbers 1, 3, and 6 (or proprietary equivalents or other certifying body equivalents). For a full description of the scope, see the Preliminary Decision Memorandum.

Methodology

Commerce is conducting this review in accordance with section 751(a)(1)(B) of the Tariff Act of 1930, as amended (the Act). For a full description of the methodology underlying our preliminary results of review, see the Preliminary Decision Memorandum.

Rescission of Administrative Review, in Part

Pursuant to 19 CFR 351.213(d)(1), Commerce will rescind an administrative review, in whole or in part, if the party or parties that requested a review withdraws the request within 90 days of the publication date of the notice of initiation of the requested review. As noted above, all requests for an administrative review were timely withdrawn for certain companies. Therefore, in accordance with 19 CFR 351.213(d)(1), we are rescinding this administrative review with respect to 11 of the 98 companies named in the Initiation Notice.⁵ See Appendix II for a list of these companies.⁶

⁵ See Initiation Notice, 85 FR at 41544-41545.

⁶ See Preliminary Decision Memorandum for further details.

Separate Rates

In the Initiation Notice, we informed parties of the opportunity to request a separate rate.⁷ In proceedings involving NME countries, Commerce begins with a rebuttable presumption that all companies within the NME country are subject to government control, and thus should be assigned a single weighted-average dumping margin. It is Commerce's policy to assign all exporters of merchandise subject to an administrative review involving an NME country this single rate unless an exporter can demonstrate that it is sufficiently independent so as to be entitled to a separate rate. Companies that wanted to qualify for separate rate status in this administrative review were required to timely file, as appropriate, a separate rate application (SRA) or a separate rate certification (SRC) to demonstrate their eligibility for a separate rate. SRAs and SRCs were due to Commerce within 30 calendar days of the publication of the Initiation Notice.⁸

⁷ See Initiation Notice, 85 FR at 41542.

⁸ Id.

Of the companies for which an administrative review was requested, and not withdrawn, only Kingtom submitted an SRA or SRC. Additionally, Anderson International, Kingtom, and Sunvast Trade Shanghai submitted certifications of no shipments. On November 2, 2020, U.S. Customs and Border Protection (CBP) issued a Notice of Determination as to Evasion, in which CBP concluded that “substantial evidence” demonstrated that the aluminum extrusions imported from “the claimed manufacturer, Kingtom Aluminio SRL (Kingtom)” were of Chinese-origin and “were transshipped” with the “country of origin claimed as the Dominican Republic.” ⁹ CBP “further” determined that “substantial evidence indicates that the Importers imports were entered through evasion, resulting in the avoidance of applicable AD/CVD deposits or other security.” ¹⁰ Accordingly, CBP determined that it would “rate adjust and change” type 01 entries of the merchandise at issue to “type 03 and continue suspension until instructed to liquidate these entries.” ¹¹

⁹ See Petitioner's Letter, “Aluminum Extrusions from the People's Republic of China: Comments on Kingtom's Section A Questionnaire Response,” dated January 7, 2021, at Attachment 1, page 1.

¹⁰ Id. at Attachment 1, pages 2 and 5.

¹¹ Id. at Attachment 1, page 18.

Kingtom was therefore a third-country exporter of Chinese-origin merchandise from the Dominican Republic during the POR, and as a third-country exporter, Kingtom was not eligible for a separate rate. Furthermore, Kingtom reported no exporter of the subject merchandise from China on the record; therefore, Commerce was unable to apply its separate rate analysis to any exporter of the merchandise re-exported by Kingtom to the United States in this review.

For a full description of the methodology underlying our preliminary denial of a separate rate to Kingtom and our rejection of its no shipments claim, see the Preliminary Decision Memorandum. We therefore preliminarily determine that the 85 companies listed in Appendix III to this notice are not eligible for a separate rate in this administrative review.¹²

¹² See Preliminary Decision Memorandum at 13-16.

China-Wide Entity

We preliminarily find that the 85 companies subject to this review and identified in Appendix III to this notice are part of the China-wide entity in this administrative review because they failed to submit an SRA, SRC, or certification of no shipments.

Commerce's policy regarding conditional review of the China-wide entity applies to this administrative review.¹³ Under this policy, the China-wide entity will not be under review unless a party specifically requests, or Commerce self-initiates, a review of the entity. Because no party requested a review of the China-wide entity in the instant review, and because Commerce did not self-initiate such a review, the entity is not under review, and the entity's current rate (i.e., 86.01 percent) ¹⁴ is not subject to change.

¹³ See Antidumping Proceedings: Announcement of Change in Department Practice for Respondent Selection in Antidumping Duty Proceedings and Conditional Review of the Nonmarket Economy Entity in NME Antidumping Duty Proceedings, 78 FR 65963, 65970 (November 4, 2013).

¹⁴ See Aluminum Extrusions from the People's Republic of China: Final Results of Antidumping Duty Administrative Review; 2018-2019, 85 FR 19726, 19728 (April 8, 2020).

Adjustments for Countervailable Subsidies

Because no company established eligibility for an adjustment under section 777A(f) of the Act for countervailable domestic subsidies, for these preliminary results, Commerce did not make an adjustment pursuant to section 777A(f) of the Act for countervailable domestic subsidies for any companies under review. Furthermore, because the China-wide entity is not under review, we made no adjustment for countervailable export subsidies for the China-wide entity pursuant to section 772(c)(1)(C) of the Act.

Disclosure and Public Comment

Normally, Commerce discloses to interested parties the calculations performed in connection with the preliminary results within five days of the public announcement, or if there is no public announcement, within five days of the date of publication of this notice in accordance with 19 CFR 351.224(b). However, because Commerce did not calculate weighted-average dumping margins for any companies in this review, nor for the China-wide entity, there is nothing further to disclose. This satisfies our regulatory obligation.

Interested parties may submit case briefs no later than 30 days after the date of publication of this notice.¹⁵ Rebuttal briefs, limited to issues raised in the case briefs, may be filed no later than seven days after the case briefs are filed.¹⁶ Parties who submit case or rebuttal briefs in this review are requested to submit with each argument: (1) A statement of the issue, (2) a brief summary of the argument, and (3) a table of authorities.¹⁷

¹⁵ See 19 CFR 351.309(c)(1)(ii).

¹⁶ See 19 CFR 351.309(d); see also Temporary Rule Modifying AD/CVD Service Requirements Due to COVID-19; Extension of Effective Period, 85 FR 41363 (July 10, 2020) (Temporary Rule).

¹⁷ See 19 CFR 351.309(c)(2) and (d)(2).

Any interested party may request a hearing within 30 days of publication of this notice.¹⁸ Hearing requests should contain the following information: (1) The party's name, address, and telephone number; (2) the number of participants; and (3) a list of the issues to be discussed. Oral presentations at the hearing will be limited to issues raised in the case and rebuttal briefs. If a request for a hearing is made, parties will be notified of the time and date for the hearing to be held.¹⁹

¹⁸ See 19 CFR 351.310(c).

¹⁹ See 19 CFR 351.310(d).

An electronically-filed document must be received successfully in its entirety by ACCESS by 5:00 p.m. Eastern Time on the established deadline. Note that Commerce has temporarily modified certain of its requirements for serving documents containing business proprietary information.²⁰

²⁰ See Temporary Rule.

Unless otherwise extended, Commerce intends to issue the final results of this administrative review, which will include the results of our analysis of all issues raised in any briefs received, within 120 days of publication of these preliminary results in the Federal Register, pursuant to section 751(a)(3)(A) of the Act.

Assessment Rates

Upon issuing the final results, Commerce will determine, and CBP shall assess, antidumping duties on all appropriate entries covered by this review.²¹ If a respondent's weighted-average dumping margin is not zero or de minimis (i.e., less than 0.50 percent) in the final results of this review, we intend to calculate importer-specific assessment rates on the basis of the ratio of the total amount of dumping calculated for each importer's examined sales and the total entered value of the importer's sales in accordance with 19 CFR 351.212(b)(1). If the respondent's weighted-average dumping margin is zero or de minimis in the final results, or if an importer-specific assessment rate is zero or de minimis, then we will instruct CBP to liquidate the appropriate entries without regards to antidumping duties.

²¹ See 19 CFR 351.212(b)(1).

Consistent with its recent notice,²² Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication). The final results of this administrative review shall be the basis for the assessment of antidumping duties on entries of merchandise under review and for future deposits of estimated duties, where applicable.

²² See Notice of Discontinuation of Policy to Issue Liquidation Instructions After 15 Days in Applicable Antidumping and Countervailing Duty Administrative Proceedings, 86 FR 3995 (January 15, 2021).

We intend to instruct CBP to liquidate entries containing subject merchandise exported by the China-wide entity at the China-wide rate. Additionally, if Commerce determines that an exporter under review had no shipments of the subject merchandise, any suspended entries that entered under that exporter's case number will be liquidated at the China-wide rate.²³

²³ See Non-Market Economy Antidumping Proceedings: Assessment of Antidumping Duties, 76 FR 65694 (October 24, 2011).

For the companies for which this review is rescinded, antidumping duties shall be assessed at rates equal to the cash deposit of estimated antidumping duties required at the time of entry, or withdrawal from warehouse, for consumption, in accordance with 19 CFR 351.212(c)(1)(i). Commerce intends to issue assessment instructions to CBP for those companies 35 days after publication of this notice.

Cash Deposit Requirements

The following cash deposit requirements for estimated antidumping duties, when imposed, will apply to all shipments of subject merchandise from China entered, or withdrawn from warehouse, for consumption on or after the publication of the final results of this administrative review, as provided by section 751(a)(2)(C) of the Act: (1) If the companies preliminarily determined to be eligible for a separate rate receive a separate rate in the final results of this administrative review, their cash deposit rate will be equal to the weighted-average dumping margin established in the final results of this review, as adjusted for domestic and export subsidies (except that if that rate is de minimis, then the cash deposit rate will be zero); (2) for any previously investigated or reviewed Chinese and non-Chinese exporters that are not under review in this segment of the proceeding but that received a separate rate in the most recently completed segment of this proceeding, the cash deposit rate will continue to be the exporter-specific rate published for the most recently completed segment of this proceeding; (3) for all Chinese exporters of subject merchandise that have not been found to be entitled to a separate rate, the cash deposit rate will be that of the China-wide entity; (4) for the China-wide entity, the cash deposit rate will be 86.01 percent; and (5) for all non-Chinese exporters of subject merchandise which have not received their own rate, the cash deposit rate will be the rate applicable to the Chinese exporter that supplied that non-Chinese exporter (or, if unidentified, that of the China-wide entity).

These cash deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing notice of these preliminary results in accordance with sections 751(a)(1) and 777(i)(1) of the Act, and 19 CFR 351.221(b)(4).

Dated: July 30, 2021.
Christian Marsh,
Acting Assistant Secretary for Enforcement and Compliance.

Appendix I

List of Topics Discussed in the Preliminary Decision Memorandum

I. Summary

II. Background

III. Scope of the Order

IV. Respondent Selection

V. Statements of No Shipments

VI. Rescission of Administrative Review, in Part

VII. Non-Market Economy Country

VIII. Separate Rates

IX. The China-Wide Entity

X. Adjustments for Countervailable Subsidies

XI. Cash Deposit Rate Applicable to Kingtom

XII. Assessment Rate Applicable to Kingtom

XIII. Section 232 Duties

XIV. Kingtom Scope Inquiry

XV. Recommendation

Appendix II

Companies for Which This Administrative Review Is Being Rescinded

1. Asia-Pacific Light Alloy (Nantong) Technology Co., Ltd.

2. Jiangsu Asia-Pacific Light Alloy Technology Co Ltd.

3. Modular Assembly Technology

4. Ningbo Xiangshan Import & Export Corporation

5. Rollease Acmeda Pty

6. Suzhou Mingde Aluminum

7. Tai-Ao Aluminum (Taishan) Co., Ltd.

8. Taizhou Puan Lighting Technology

9. Uniton Investment Ltd.

10. Wellste Material

11. Zhejiang Shiner Import and Export

Appendix III

Companies Preliminarily Not Entitled to a Separate Rate

1. Allpower Display Co., Ltd

2. Amidi Zhuhai

3. Beauty Sky Technology Co. Ltd

4. Changshu Changsheng Aluminum Products Co., Ltd

5. Chenming Industry and Commerce Shouguang Co., Ltd.

6. China International Freight Co. Ltd

7. China State Decoration Group Co., Ltd.

8. CRRC Changzhou Auto Parts Co. Ltd*

9. Custom Accessories Asia Ltd.

10. Everfoison Industry Ltd.

11. Foshan City Fangyuan Ceramic

12. Foshan City Nanhai Yongfeng Aluminum

13. Foshan City Top Deal Import and Export Co., Ltd.

14. Foshan Gold Bridge Import and Export Co. Ltd.

15. Foshan Golden Promise Import and Export Co., Ltd.

16. Foshan Guangshou Import and Export Co., Ltd.

17. Foshan Xingtao Aluminum Profile Co., Ltd.

18. Fujian Minfa Aluminum Inc.

19. Fujian Minfa Aluminum Co., Ltd.

20. Fuzhou Ruifuchang Trading Co., Ltd.

21. Fuzhou Sunmodo New Energy Equipment Co., Ltd.

22. Gebruder Weiss

23. Gold Bridge International

24. Grupo Emb

25. Grupo Europeo La Optica

26. Grupo Pe No Mato In

27. Guangdong Gaoming Guangtai Shicai

28. Guangdong Gaoxin Communication Equipment Industrial Co., Ltd.

29. Guangdong Golden China Economy

30. Guangdong Maoming Foreign Trade Enterprise Development Co.

31. Guangdong Taiming Metal Products Co., LTD.

32. Guangdong Victor Aluminum Co., Ltd.

33. Guangzhou Jintao Trade Company

34. Hangzhou Evernew Machinery & Equipment Co., Ltd.

35. Hangzhou Tonny Electric and Tools Co., Ltd.

36. Hefei Sylux Imp. & Exp. Co., Ltd.

37. Hong Kong Dayo Company, Ltd.

38. Huazhijie Plastic Products

39. Huiqiao International Shanghai

40. Ilshim Almax

41. Jer Education Technology

42. Jiangsu Weatherford Hongda Petroleum Equipment Co., Ltd.

43. Jiangsu Yizheng Haitian Aluminum Industrial

44. Jiang Yin Ming Ding Aluminum & Plastic Products Co., Ltd

45. Jilin Qixing Aluminum Industries Co., Ltd.

46. Jin Lingfeng Plastic Electrical Appliance

47. Kanal Precision Aluminum Product Co. Ltd.

48. Kingtom Aluminio SRL

49. Larkcop International Co Ltd

50. Ledluz Co Ltd

51. Liansu Group Co. Ltd

52. Links Relocations Beijing

53. Marshell International

54. Ningbo Deye Inverter Technology

55. Ningbo Hightech Development

56. Ningbo Winjoy International Trading

57. Orient Express Container

58. Ou Chuang Plastic Building Material (Zhejiang) Co., Ltd.

59. Pentagon Freight Service

60. Pro Fixture Hong Kong

61. Qingdao Sea Nova Building

62. Qingdao Yahe Imports and Exports

63. Sewon

64. Shandong Huajian Aluminum Industry

65. Shanghai EverSkill M&E Co., Ltd.

66. Shanghai Jingxin Logistics

67. Shanghai Ouma Crafts Co, Ltd.

68. Shanghai Phidix Trading

69. Sinogar Aluminum

70. Transwell Logistics Co., Ltd.

71. United Aluminum

72. Wanhui Industrial China

73. Wenzhou Yongtai Electric Co., Ltd.

74. Winstar Power Technology Limited

75. Wisechain Trading Ltd.

76. Wuxi Lotus Essence

77. Wuxi Rapid Scaffolding Engineering

78. Wuxi Zontai Int'l Corporation Ltd.

79. Xuancheng Huilv Aluminum Industry Co., Ltd.

80. Yekalon Industry Inc

81. Yonn Yuu Enterprise Co., Ltd.

82. Yuyao Royal Industrial

83. Zhejiang Guoyao Aluminum Co., Ltd.

84. Zhongshan Broad Windows and Doors and Curtain

85. ZL Trade Shanghai

[FR Doc. 2021-16843 Filed 8-5-21; 8:45 am]

BILLING CODE 3510-DS-P